FEDERAL COMMUNICATIONS COMMISSION

47 CFR Part 64

[CG Docket No. 03-123; DA 08-2808]

Telecommunications Relay Services and Speech-to-Speech Services for Individuals With Hearing and Speech Disabilities

AGENCY: Federal Communications Commission.

ACTION: Final rule; extension of waiver.

SUMMARY: In this document, the Consumer and Governmental Affairs Bureau (Bureau) extends for an additional year waivers of certain Telecommunications Relay Services (TRS) mandatory minimum standards for Video Relay Service (VRS) and Internet Protocol Relay (IP Relay). The waived TRS mandatory minimum standards are: One-line voice carry over (VCO); VCO-to-teletypewriter (TTY); VCO-to-VCO; one-line hearing carry over (HCO); HCO-to-TTY; HCO-to-HCO; call release; pay-per-call (900) calls; types of calls; equal access to interexchange carriers; and speech-to-speech (STS). Also, in this document, the Bureau grants a limited extension of the waiver of the speed dialing requirement for IP Relay. The Bureau extends the waivers for one year (four months in the case of speed dialing for IP Relay) because the record demonstrates that it is technologically infeasible for VRS and IP Relay providers to offer these services at this time.

DATES: The waivers of certain TRS mandatory minimum standards for VRS and IP Relay will expire on January 1, 2010, except the limited extension of the wavier of the speed dialing requirement for IP Relay, which expired on May 1, 2009.

ADDRESSES: Parties may submit documentation related to the waivers, identified by [CG Docket No. 03-123 and/or DA 08-2808], by mail, to: Dana Wilson, Consumer and Governmental Affairs Bureau, Disability Rights Office, 445 12th Street, SW., Room 3-C418, Washington, DC 20554.

FOR FURTHER INFORMATION CONTACT: Gregory Hlibok, Consumer and Governmental Affairs Bureau, Disability Rights Office at (866) 954-4053 (voice), (202) 418-0431 (TTY), or e-mail Gregory.Hlibok@fcc.gov.

SUPPLEMENTARY INFORMATION: This is a summary of the Bureau Order, document DA 08-2808, adopted and released on December 24, 2008, extending certain waivers of TRS mandatory minimum standards to January 1, 2010, and extending waiver of the speed dialing requirement for IP Relay until May 1, 2009. The full text of document DA 08-2808, and copies of any subsequently filed documents in this matter, will be available for public inspection and copying during regular business hours at the FCC Reference Information Center, Portals II, 445 12th Street, SW., Room CY-A257, Washington, DC 20554. Document DA 08-2808, and copies of subsequently filed documents in this matter, also may be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice) or (202) 418-0432 (TTY). Document DA 08-2808 also can be downloaded in Word and Portable Document Format (PDF) at http://www.fcc.gov/cgb/dro/trs.html.

Synopsis

1. The Commission, in various orders, has waived several TRS mandatory minimum standards for VRS and IP Relay either because, as Internet-based services, it is not technologically feasible to meet the requirement or, in the case of VRS, because VRS is a video-based service and the communication is via sign language and not text. Most recently, in the 2007 TRS Waiver Order, the Commission extended certain waivers until January 1, 2009. See Telecommunications Relay Services and Speech-to-Speech Services for Individuals with Hearing and Speech Disabilities, CG Docket No. 03-123, Order, adopted and released on December 26, 2007, published at 73 FR 9031, February 19, 2008 (2007 TRS Waiver Order). These waivers were conditioned on the filing of annual reports, due April 16, 2008, addressing whether it was necessary for the waivers to remain in effect. All VRS and IP Relay providers have filed reports detailing their progress in meeting the waived requirements. The Bureau reviewed these reports in reaching the conclusions below.

2. One-line VCO, VCO-to-TTY, and VCO-to-VCO. VCO is a type of traditional TTY-based TRS that can be used by persons with a hearing disability but who can speak. See 47 CFR 64.601(27); 47 CFR 64.604(a)(3)(v). The Commission waived these requirements for IP Relay providers because the voice leg of a VCO call could not be supported over the Internet. The Commission similarly waived these requirements for VRS. The Bureau extends the waivers of these requirements for one year. The Bureau notes that the April 16, 2008 waiver reports reflected that VRS and IP Relay providers cannot provide these services because the Internet cannot support the voice leg of a VCO call with the necessary call quality. These waivers were again conditioned on the filing of reports, due April 16, 2009, addressing whether it is necessary for the waivers to remain in effect.

3. One-line HCO, HCO-to-TTY, and HCO-to-HCO. One-line HCO is a type of traditional TTY-based TRS that can be used by persons with a speech disability but who can hear. See 47 CFR 64.604(9); 47 CFR 64.604(a)(3)(v). For the same reason the Commission waived the VCO requirements for IP Relay, it did so with respect to the HCO requirements. The Commission similarly waived these requirements for VRS. Consistent with the Bureau's treatment of VCO, and for the same reasons, the Bureau extends the waivers of these requirements for one year. The Bureau also notes that the April 16, 2008 waiver reports reflected that VRS and IP Relay providers could not provide these services. These waivers were also conditioned on the filing of reports, due April 16, 2009, addressing whether it is necessary for the waivers to remain in effect.

4. Call Release. Call release allows a communications assistant (CA) to set up a TTY-to-TTY call that, once established, does not require the CA to relay the conversation. See 47 CFR 64.604(a)(3)(vi). The Commission waived this requirement for VRS and IP Relay. The Bureau extends the waivers of this requirement for one year due to technological infeasibility. This conclusion is supported by the providers' April 16, 2008 waiver reports, which reflect that the Internet leg of the call (via video or text) cannot support call release functionality. These waivers were also conditioned on the filing of reports, due April 16, 2009, addressing whether it is necessary for the waivers to remain in effect.

5. Pay-Per-Call (900) calls. Pay-per-call (900) calls are calls that the person making the call pays for at a charge greater than the basic cost of the call. See 47 CFR 64.604(a)(3)(iv). The Commission waived this requirement for VRS and IP Relay. The Bureau extends the waivers of this requirement for VRS and IP Relay for one year. The providers' April 16, 2008 waiver reports reflected that there was still no billing mechanism available to handle the charges associated with pay-per-calls. These waivers were also conditioned on the filing of reports, due April 16, 2009, addressing whether it is necessary for the waivers to remain in effect.

6. Types of Calls (Operated Assisted Calls and Long Distance Calls). Commission rules require TRS providers to handle any type of call normally handled by common carriers. See 47 CFR 64.604(a)(3). The requirement that VRS providers offer operator-assisted calls and bill certain types of calls to the end user has been waived because it was not possible to determine if a VRS call is local or long distance. The providers' April 16, 2008 waiver reports reflected that it remained technologically infeasible for VRS providers to offer operator-assisted calls and to bill for certain types of long distance calls because one leg of the VRS call is transmitted over the Internet. Based on the record, the Bureau therefore extends waivers of this requirement for VRS for one year as long as providers allow calls to be placed using calling cards and/or provide free long distance calls. This waiver was also conditioned on the filing of a report, due April 16, 2009, addressing whether it is necessary for the waiver to remain in effect. Although this issue has not been raised, the Bureau understands that IP Relay providers, for the same reasons as VRS providers, cannot provide there services. Therefore, to avoid any future uncertainty or compliance issues, the Bureau waives on its own motion this requirement for IP Relay as long as the providers allow calls to be placed using calling cards and/or to provide free long distance calls. The Bureau notes, however, that with the advent of ten-digit numbering for VRS and IP Relay, which became effective December 31, 2008, providers will be able to determine the geographic location of both parties to the call. Therefore, in their April 2009 waiver report, providers were to specifically address the effect of the numbering and registered location requirements on the continued need for this waiver.

7. Equal Access to Interexchange Carriers. The TRS rules require that providers offer TRS users their interexchange carrier of choice to the same extent that such access is provided to voice users. See 47 CFR 64.604(b)(3). The Commission has waived this requirement for VRS providers, noting that it was not possible to determine if a call is long distance and, in any event, the providers could not automatically route the calls to the caller's long distance carrier of choice. The Commission also noted that this waiver was contingent on VRS providers providing long distance services free of charge to the caller. The Commission waived this requirement for IP Relay indefinitely.

8. The providers' April 16, 2008 waiver reports again reflected that because they cannot determine whether a particular call is local or long distance, they cannot offer carrier of choice but instead do not charge consumers for long distance. Based on the record, the Bureau therefore extends this waiver for VRS for one year as long as the providers provide free long distance calls. This waiver was also conditioned on the filing of a report, due April 16, 2009, addressing whether it is necessary for the waiver to remain in effect. Again, however, as noted above, providers were to specifically address the effect of the numbering and registered location requirements on the continuing need for this waiver.

9. Speech-to-Speech. In 2000, the Commission recognized STS as a form of TRS and required that it be offered as a mandatory service. The Commission waived this requirement indefinitely for VRS, noting that STS is speech-based service, whereas VRS is a visual service using interpreters to interpret in sign language over a video connection. The requirement for IP Relay was waived until January 1, 2009, because of the technical difficulties with respect to voice-initiated calls and the Internet. The Bureau extends the waiver of this requirement for IP Relay for one year. Providers continued to report that this service, like the VCO and HCO services, cannot be provided via IP Relay because of erratic voice quality. The waiver was also conditioned on the filing of a report, due April 16, 2009, addressing whether it is necessary for the waiver to remain in effect.

10. Speed Dialing. Speed dialing allows a TRS user to give the CA a “short-hand” name or number (e.g., “call Mom”) for the user's most frequently called telephone numbers. See 47 CFR 64.604(a)(3)(vi). This feature permits a person making a TRS call through a CA to place the call without having to remember or locate the number he or she desires to call. The Commission waived this requirement for IP Relay. The waiver of the speed dialing requirement for VRS expired on April 30, 2008. See Telecommunications Relay Services and Speech-to-Speech Services for Individuals with Hearing and Speech Disabilities, CG Docket No. 03-123, Order, adopted and released on January 8, 2008, published at 73 FR 9031, February 19, 2008.

11. Based on the record, the Bureau granted a limited extension of this requirement for IP Relay until April 30, 2009. The record indicated that all IP Relay providers except AT&T are offering speed dialing. In November 2008, AT&T filed a request to extend this waiver for 90 days, noting that it has recently “upgraded” its service “from a web-based service to an IM-based service,” and is phasing out use of its web-based IP Relay service that lacks a speed dialing feature. AT&T therefore requested a waiver of the speed dialing feature “solely [for] its web-based IP Relay service through March 31, 2009, at which time AT&T will have ceased providing the service.” AT&T asserted that granting the limited waiver is in the public interest, as it allows existing users of its web-based service a reasonable timeframe to migrate to other types of IP Relay services that offer a speed dialing feature, such as AT&T's IM-based IP Relay service. The Bureau agreed that, in these circumstances, a limited 90 day extension of the waiver of the speed dialing requirement for AT&T's Web-based IP Relay service was appropriate. For this reason, the Bureau granted AT&T's request for an extension of this waiver through April 30, 2009. After that date, all IP Relay providers must offer this feature.

Ordering Clauses

12. Pursuant to section 225 of the Communications Act of 1934, as amended, 47 U.S.C. 225, and §§ 0.141, 0.361, and 1.3 of the Commission's rules, 47 CFR 0.141, 0.361, and 1.3, document DA 08-2808 is adopted.

13. For VRS, the waivers of the one-line VCO, VCO-to-TTY, and VCO-to-VCO; one-line HCO, HCO-to-TTY, and HCO-to-HCO; call release; pay-per-call (900) calls, types of calls, and equal access to interexchange carrier requirements are hereby extended for one year, until January 1, 2010, conditioned on the filing of a report, due April 16, 2009, addressing whether it is necessary for the waivers to remain in effect.

14. For IP Relay, the waivers of the one-line VCO, VCO-to-TTY, and VCO-to-VCO; one-line HCO, HCO-to-TTY, and HCO-to-HCO; call release; pay-per-call (900) calls; and STS requirements are hereby extended for one year until January 1, 2010, conditioned on the filing of a report, due April 16, 2009, addressing whether it is necessary for the waivers to remain in effect. The waiver of the speed dialing requirement for IP Relay is extended until May 1, 2009.

15. AT&T's Request for Extension of Waiver is granted.

Federal Communications Commission.
Mark Stone,
Deputy Chief, Consumer and Governmental Affairs Bureau.

[FR Doc. E9-25690 Filed 10-23-09; 8:45 am]

BILLING CODE 6712-01-P